DEPARTMENT OF TRANSPORTATION

Federal Aviation Administration

14 CFR Part 77

[Docket No. FAA-2014-0134]

RIN 2120-AF90

Proposal To Consider the Impact of One Engine Inoperative Procedures in Obstruction Evaluation Aeronautical Studies

AGENCY: Federal Aviation Administration, Department of Transportation.

ACTION: Proposed policy; notice of public meeting and extension of comment period.

SUMMARY: The FAA will hold a public meeting to discuss its proposal to consider the impact of one engine inoperative procedures during aeronautical studies. This proposal was published in the Federal Register on April 28, 2014. During the meeting, the FAA will explain the proposal and respond to questions seeking clarification of the proposed policy. In addition, the FAA is extending the time period for which the public may submit written comments for an additional 30 days.

DATES: The comment period for the proposed policy published April 28, 2014 (79 FR 23300), is extended. The meeting will be held online with a teleconference on Wednesday, June 25, 2014, from 2:00 p.m. to 4:00 p.m. eastern time. Written public comments regarding this FAA proposed policy should be submitted by July 28, 2014.

FOR FURTHER INFORMATION CONTACT: John Speckin, Airport Obstruction Standards Committee, Region and Center Operations, Office of Finance and Management, Federal Aviation Administration, 800 Independence Avenue SW., Washington, DC 20591; telephone: (816) 329-3053; email: 7-ACE-Federal-Registry-Notice@faa.gov.

SUPPLEMENTARY INFORMATION: On April 28, 2014, the FAA published for public comment a proposal to amend its policy concerning the impacts of certain structures during aeronautical studies conducted under Title 14 of the Code of Federal Regulations Part 77. Specifically, the FAA proposed to consider the impact of one engine out procedures when studying new structures or modifications to existing structures at certain airports that have a defined departure area for each runway end supporting commercial service operations. FAA is proposing to factor these impacts into the aeronautical study process because the encroachment of airspace by structures surrounding certain airports appears to be significantly limiting options available to airlines to establish OEI procedures. Registration for the meeting is required by June 23, 2014. To register, email 7-ACE-Federal-Registry-Notice@faa.gov with your name and the company or organization you are representing. In a response email, the attendees will be provided with instructions on how to connect to the online meeting and the teleconference. In the public meeting, the FAA will provide a slide presentation to further explain the proposed policy. Participants will be able to submit questions utilizing the instant message application of the online tool. In addition, the FAA is extending the time period for which the public may submit written comments for an additional 30 days.

Issued in Washington, DC, on June 3, 2014.
Raymond Towles,
Deputy Assistant Administrator for Regions and Center Operations, Office of Finance and Management, Federal Aviation Administration.

[FR Doc. 2014-13484 Filed 6-5-14; 4:15 pm]

BILLING CODE 4910-13-P